DEPARTMENT OF COMMERCE

National Oceanic and Atmospheric Administration

50 CFR Part 665

RIN 0648-BN03

Pacific Island Fisheries; Amendment 7 to the Fishery Ecosystem Plan for the American Samoa Archipelago; Discontinue Rebuilding Plan for American Samoa Bottomfish and Implement Annual Catch Limits and Accountability Measures for Fishing Years 2024-2026

AGENCY: National Marine Fisheries Service (NMFS), National Oceanic and Atmospheric Administration (NOAA), Commerce.

ACTION: Availability of proposed fishery ecosystem plan amendment; request for comments.

SUMMARY: NMFS announces that the Western Pacific Fishery Management Council (Council) proposes to amend the Fishery Ecosystem Plan for the American Samoa Archipelago (FEP). If approved, the FEP would be amended to discontinue the rebuilding plan for American Samoa bottomfish and NMFS would implement annual catch limits (ACL) and accountability measures (AM) for American Samoa bottomfish. The action is necessary because new best scientific information indicates the fishery is not overfished or experiencing overfishing. The proposed action considers the best available scientific, commercial, and other information about the fishery, and supports the long-term sustainability of the fishery.

DATES: NMFS must receive comments on the proposed amendment by October 1, 2024.

ADDRESSES: A plain language summary of this proposed amendment is available at https://www.regulations.gov/docket/NOAA-NMFS-2024-0088. You may submit comments on the proposed amendment, identified by NOAA-NMFS-2024-0088, by either of the following methods:

• Electronic Submission: Submit all electronic public comments via the Federal e-Rulemaking Portal. Go to https://www.regulations.gov and type NOAA-NMFS-2024-0088 in the Search box (note: copying and pasting the FDMS Docket Number directly from this document may not yield search results). Click on the “Comment” icon, complete the required fields, and enter or attach your comments.

• Mail: Send written comments to Sarah Malloy, Deputy Regional Administrator, NMFS Pacific Islands Regional Office (PIRO), 1845 Wasp Blvd., Bldg. 176, Honolulu, HI 96818.

Instructions: Comments sent by any other method, to any other address or individual, or received after the end of the comment period, may not be considered by NMFS. All comments received are a part of the public record and will generally be posted for public viewing on https://www.regulations.gov without change. All personal identifying information (e.g., name, address, etc.), confidential business information, or otherwise sensitive information submitted voluntarily by the sender will be publicly accessible. NMFS will accept anonymous comments (enter“N/A” in the required fields if you wish to remain anonymous).

Amendment 7 includes a draft environmental assessment (EA) and regulatory impact review (RIR) that analyzes the potential impacts of the proposed action and alternatives considered. Copies of amendment 7, including the EA and RIR, and other supporting documents, are available from https://www.regulations.gov or the Council, 1164 Bishop St., Suite 1400, Honolulu, HI 96813, telephone 808-522-8220, fax 808-522-8226, https://www.wpcouncil.org.

FOR FURTHER INFORMATION CONTACT: Heather Nelson, Sustainable Fisheries Division, NMFS PIR, 808-725-5179.

SUPPLEMENTARY INFORMATION: NMFS announces the availability of amendment 7 to the FEP for the American Samoa Archipelago. This amendment would discontinue the stock rebuilding plan (see 50 CFR 600.310(j)) established through amendment 5 to the FEP and associated ACLs and AMs implemented to end overfishing and rebuild the stock (87 FR 25590, May 5, 2022), and would implement new ACLs and AMs to prevent overfishing (see 50 CFR 600.310(g)-(f)).

The Council and NMFS manage Federal fisheries in the Pacific Islands Region pursuant to the Magnuson-Stevens Fishery and Conservation and Management Act (Magnuson-Stevens Act). Management of the American Samoa bottomfish fishery is organized through the American Samoa Archipelago FEP. There are 11 bottomfish management unit species (BMUS) managed under the FEP: 8 snappers, 1 emperor, 1 jack, and 1 grouper. Fishing for bottomfish primarily occurs within 20 miles (32 kilometers) from shore using aluminum catamarans less than 32 feet (9.7 meters) long, known locally as alia. The fishery is relatively small and primarily non-commercial, but it is still of importance to the local economy, and from social, cultural, and food security standpoints. In 2022, nine vessels participated in the bottomfish fishery. During the most recent 3 years of available data (2020-2022), American Samoa bottomfish fishermen caught an average of 4,114 pounds (lb) (1,866 kilograms (kg)) of bottomfish annually. Catches were higher between 2017 and 2019 before the onset of the COVID-19 pandemic and the overfished determination, and American Samoa bottomfish fishermen caught an average of 12,499 lb (5,669 kg) of bottomfish annually. The fishery is culturally important in spite of the relatively modest catch totals, as deep-water snappers are used for chiefly position entitlements and fa'a lalave ceremonies (e.g., funerals, weddings, births, and special birthdays).

The fishery is currently managed under a rebuilding plan established to address an overfished stock status determination for all 11 BMUS as a multi-species stock complex (85 FR 26940, May 6, 2020). This status determination was based on the results of the 2019 benchmark stock assessment, which analyzed fishery data through 2017. Consistent with section 304(e) of the Magnuson-Stevens Act and implementing regulations at 50 CFR 600.310(j), the Council prepared, and NMFS implemented, a rebuilding plan under amendment 5 to the FEP. The rebuilding plan implemented an ACL of 5,000 lb (2,268 kg) of BMUS starting in 2022, and harvests from both territorial and Federal waters are counted toward the ACL. The rebuilding plan also includes an in-season AM and a higher performance standard. As an in-season AM, if NMFS projects that the fishery will reach the ACL in any year, then the fishery will be closed in Federal waters for the remainder of that year. If the total annual catch exceeds the ACL during a year, NMFS will close the fishery in Federal waters until NMFS and the Territory of American Samoa implement a coordinated management approach to ensure that catch in Federal and territorial waters is maintained at levels that allow the stock to rebuild or the rebuilding plan is modified based on the best scientific information available.

In June 2023 NMFS completed a new benchmark stock assessment for bottomfish in American Samoa that used single-species, age-structured models to determine stock status relative to overfishing and overfished reference points defined in the FEP. The 2023 benchmark stock assessment evaluated 9 of the 11 BMUS and found that none of the assessed species were overfished or experiencing overfishing in 2017 or in any year since. That none of the stocks were overfished in the final data year of the previous assessment or since is significant because that is a criterion for discontinuing a rebuilding plan (see 50 CFR 600.310(j)(5)). Insufficient data were available to assess two species, Etelis carbunculus and Pristipomoides filamentosus. The assessment recommended using taxonomically and ecologically similar species (E. coruscans and P. flavipinnis, respectively) as indicator species to manage the unassessed species. This practice is consistent both with management practices in the FEP and National Standard 1 of the Magnuson-Stevens Act (50 CFR 600.31(d)(2)(ii)), and it was supported by the Council's Scientific and Statistical Committee.

NMFS determined the 2023 benchmark stock assessment to be the best scientific information available, consistent with National Standard 2 of the Magnuson-Stevens Act, and issued a notification informing the Council of its determination that none of the American Samoa bottomfish stocks assessed in the 2023 benchmark assessment were overfished or subject to overfishing. Therefore, at its 197th meeting in December 2023, in accordance with the ACL process approved by NMFS, and in consideration of the best available scientific, commercial, and other information, the Council recommended discontinuing the rebuilding plan, specifying ACLs and accountability measures (AMs) for nine assessed BMUS for fishing years 2024-2026, and using Etelis coruscans as an indicator species for E. carbunculus and Pristipomoides flavipinnis as an indicator species for P. filamentosus.

Separate ACLs and AMs would not be implemented for E. carbunculus and P. filamentosus. Instead, they would be subject to the post-season AM based on monitoring of catch of the indicator species. There are no Federal reporting requirements for bottomfish fishing in Federal waters around American Samoa. Therefore, monitoring of the fishery depends largely on data voluntarily provided by fishermen to the American Samoa Department of Marine and Wildlife Resources (DMWR) through a creel survey program. Additionally, DMWR reviews sales data from its mandatory commercial fish purchase system. As a post-season AM, if NMFS and the Council determine that the average catch from the most recent 3-year period exceeds the ACL for any species, NMFS would reduce the ACL for that species in subsequent years by the amount of overage. If approved, amendment 7 would discontinue the rebuilding plan for American Samoa bottomfish and implement single-species ACLs for the nine assessed American Samoa BMUS for fishing years 2024-2026 as recommended by the Council.

Public comments are being solicited on amendment 7 to the FEP through the end of the comment period stated in this Notice of Availability. NMFS must receive comments on the proposed amendment by October 1, 2024 for consideration in the decision to approve, partially approve, or disapprove the amendment.

A proposed rule that would implement the FEP amendment may be published in the Federal Register for public comment, following NMFS' evaluation under the Magnuson-Stevens Act procedures. Public comments on the proposed rule must be received by the end of the comment period on the FEP amendment to be considered in the decision to approve, partially approve, or disapprove the FEP amendment.

All comments received by the end of the comment period on the FEP amendment, whether specifically directed to the FEP amendment or the proposed rule, will be considered in the approval/disapproval decision. Comments received after that date will not be considered in the decision of the FEP amendment. To be considered, comments must be received by the close of business on the last day of the comment period; that does not mean postmarked or otherwise transmitted by that date.

Authority: 16 U.S.C. 1801 et seq.

Dated: July 30, 2024.
Lindsay Fullenkamp,
Acting Director, Office of Sustainable Fisheries, National Marine Fisheries Service.

[FR Doc. 2024-17106 Filed 8-1-24; 8:45 am]

BILLING CODE 3510-22-P